DEPARTMENT OF THE TREASURY

Internal Revenue Service

26 CFR Parts 1 and 301

[REG-144615-02]

RIN 1545-BB26

Section 482; Methods To Determine Taxable Income in Connection With a Cost Sharing Arrangement; Hearing

AGENCY: Internal Revenue Service (IRS), Treasury.

ACTION: Notice of proposed rulemaking; change of date of public hearing; and extension of time for public comments.

SUMMARY: This document changes the date of the public hearing and provides notice of an extension of time for submitting comments with respect to a notice of proposed rulemaking and notice of public hearing on proposed regulations that provide guidance regarding methods under section 482 to determine taxable income in connection with a cost sharing arrangement.

DATES: The public hearing originally scheduled for Wednesday, November 16, 2005, at 10 a.m. is rescheduled for Friday, December 16, 2005, at 10 a.m. The IRS must receive outlines of the topics to be discussed at the hearing by Friday, November 25, 2005.

ADDRESSES: The public hearing is being held in the IRS Auditorium, Internal Revenue Building, 1111 Constitution Avenue NW., Washington, DC. Due to building security procedures, visitors must enter at the Constitution Avenue entrance.

FOR FURTHER INFORMATION CONTACT: LaNita Van Dyke of the Publications and Regulations Branch, Associate Chief Counsel (Procedure and Administration), at (202) 622-7180 (not a toll-free number).

SUPPLEMENTARY INFORMATION: A notice of proposed rulemaking and notice of public hearing appearing in the Federal Register on Monday, August 29, 2005 (70 FR 51116), announced that a public hearing on proposed regulations providing guidance regarding methods under section 482 to determine taxable income in connection with a cost sharing arrangement will be held on Wednesday, November 16, 2005, beginning at 10 a.m., in the IRS Auditorium of the Internal Revenue Building, 1111 Constitution Avenue NW., Washington, DC.

The date of the hearing has changed. The hearing is scheduled for Friday, December 16, 2005, beginning at 10 a.m. in the IRS Auditorium, Internal Revenue Building, 1111 Constitution Avenue NW., Washington, DC. Because of the controlled access restrictions, attendants will not be admitted beyond the lobby area of the Internal Revenue Building until 9:30 a.m. The IRS will prepare an agenda showing the scheduling of the speakers after the outlines are received from the persons testifying and make copies available free of charge at the hearing.

Guy R. Traynor,
Acting Chief, Publication and Regulations Branch, Legal Processing Division, Associate Chief Counsel (Procedure and Administration).

[FR Doc. 05-19405 Filed 9-27-05; 8:45 am]

BILLING CODE 4830-01-P